DEPARTMENT OF VETERANS AFFAIRS

[OMB Control No. 2900-0321]

Agency Information Collection Activity Under OMB Review: Appointment of Veterans Service Organization as Claimant's Representative and Appointment of Individual as Claimant's Representative

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0321.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0321” in any correspondence.

SUPPLEMENTARY INFORMATION:

Authority: 38 U.S.C. 5701, 5702, 5902, 5903, and 7332, 38 CFR 14.631 and 1.525.

Title: Appointment of Veterans Service Organization as Claimant's Representative (VA Form 21-22) and Appointment of Individual as Claimant's Representative (VA Form 21-22a).

OMB Control Number: 2900-0321.

Type of Review: Reinstatement of a previously approved collection.

Abstract: VA Forms 21-22 and 21-22a are used to collect the information needed to determine whom claimants have appointed to represent them in the preparation, presentation, and prosecution of claims for VA benefits. The information is also used to determine the extent of representatives' access to claimants' records.

No changes have been made to these forms. The respondent burden has increased due to the estimated number of receivables averaged over the past year.

An agency may not conduct or sponsor, and a person is not required to respond to a collection of information unless it displays a currently valid OMB control number. The Federal Register Notice with a 60-day comment period soliciting comments on this collection of information was published at 87 FR 232 on December 5, 2022, page 74474.

Affected Public: Individuals and households.

Estimated Annual Burden: 61,249 hours.

Estimated Average Burden per Respondent: 5 minutes.

Frequency of Response: One time.

Estimated Number of Respondents: 735,004.

By direction of the Secretary.
Maribel Aponte,
VA PRA Clearance Officer, Office of Enterprise and Integration, Data Governance Analytics, Department of Veterans Affairs.

[FR Doc. 2023-13022 Filed 6-16-23; 8:45 am]

BILLING CODE 8320-01-P